DEPARTMENT OF HEALTH AND HUMAN SERVICES

Administration for Children and Families

[Notice of Program Announcement No. ACYF/HS-2003-15]

Fiscal Year 2003 Discretionary Announcement for Head Start Partnerships With Historically Black Colleges and Universities; Availability of Funds and Request for Applications

AGENCY: Administration on Children, Youth and Families (ACYF), Administration for Children and Families (ACF), Department of Health and Human Services (DHHS).

ACTION: Announcement of the availability of funds and request for applications for professional development and training grants for Historically Black Colleges and Universities (HBCUs) in partnership with Head Start and Early Head Start programs to improve services to Head Start and Early Head Start children and families.

The Catalog of Domestic Assistance Number is 93.600.

SUMMARY: The Administration for Children and Families (ACF), Administration on Children, Youth and Families (ACYF) announces the availability of up to $1,500,000 in funds for Head Start training grants in partnerships with (HBCUs). The purpose is to improve the quality and long-term effectiveness of Head Start and Early Head Start grantees and delegate agencies by forming partnerships between the HBCUs and Head Start and Early Head Start to develop and implement academic and other training models in support of early literacy for Head Start and Early Head Start programs.

CLOSING DATE: The closing date for receipt of applications under this announcement is 4:30 p.m. (Eastern Time) August 20, 2003.

ADDRESSES: Mailed and hand-carried applications will be received at the following address: ACYF Operations Center, Historically Black Colleges and Universities, 1150 Connecticut Avenue, NW., Suite 1100, Washington, DC 20036, Telephone: 1-800-351-2293, E-mail: HSB@esilsg.org.

All packages should be clearly labeled as follows: Application for Head Start Partnerships with Historically Black Colleges and Universities (HBCUs). Applicants will receive a confirmation postcard upon receipt of their application package.

FOR FURTHER INFORMATION CONTACT: The Head Start Discretionary Grant Support Team (1-800-351-2293) is available to answer questions concerning application requirements and to refer you to the appropriate contact person in ACYF for programmatic questions. You may e-mail your questions to: HSB@esilsg.org. When contacting ACYF directly with programmatic questions send to William F. Wilson, Grants Officer, 330 C Street, SW., Washington, DC 20447, (202) 205-8913, wwilson@acf.hhs.gov.

In order to determine the number of expert reviewers that will be necessary, if you plan to submit an application, you are requested to send a post card or call with the following information: the name, address, telephone and fax numbers, and e-mail address of the college/university at least four weeks prior to the submission deadline date to: ACYF Operations Center, Historically Black Colleges and Universities, 1150 Connecticut Avenue, NW., Suite 1100, Washington, DC 20036, Telephone: 1-800-351-2293, E-mail: HSB@esilsg.org.

An application kit including copies of the program announcement, necessary application forms and appendices can be obtained by contacting the above address, and/or visiting the ACYF Web site at http://www.acf.hhs.gov/programs/hsb/grant/fundingopportunities/fundopport.htm.

Fiscal Year 2002 Discretionary Announcement for Head Start Partnerships With Historically Black Colleges and Universities

A. Table of Contents

This program announcement is divided into five sections:

• Part I contains general information, the history and background for the Whitehouse Initiative on Historically Black Colleges and Universities (HBCUs), including the principles and program description that will guide the development, implementation, operation, and evaluation of the projects.

• Part II contains key program information including a description of competitive categories, description of eligible applicants, project periods, and applicable Head Start regulations.

• Part III contains the requirements for information that must be included in each application.

• Part IV presents the criteria upon which applications will be reviewed and evaluated.

• Part V contains a discussion of the application process.

Part I. Purpose and Background

A. Purpose

Through this announcement, the Administration on Children, Youth and Families (ACYF) is making available up to $1,500,000 annually for each of five years to support Head Start-HBCU Partnerships, which will be awarded through a competitive process this year. These partnerships will be designed to improve the quality and long-term effectiveness of Head Start and Early Head Start grantees by developing academic and other training models in support of early literacy and forming partnerships between the HBCUs and Head Start and Early Head Start grantees and delegate agencies. The institutions of higher education that will be funded under this announcement, together with those HBCUs currently funded under this initiative, will form a consortium to share methods, approaches, experiences, and lessons learned.

B. Background

The overall goal of Head Start is to ensure that children of low-income families who are nearing the end of the preschool period and entering school are ready for school success. In order to accomplish this goal, Head Start provides comprehensive services to these children and their families. Head Start enhances children's physical, intellectual, social, and emotional development. It supports parents in their efforts to fulfill their parental roles and provides for their involvement in implementing the Head Start program. Another goal of Head Start is to strengthen community supports for families with young children while they are working towards employment and self-sufficiency.

In an attempt to ensure high quality services to children and their families, Head Start has conducted many demonstration projects, provided grantees with training and technical assistance, and given grantees funds to implement their own training efforts. For example, Head Start supported the creation of the Child Development Associate (CDA) credential designed for early childhood development teaching staff, implemented the Head Start Teaching Centers, and developed other innovative projects.

Head Start-HBCU partnerships is closely aligned with the Head Start tradition of creating innovative programs of working with low-income children and their families. Since 1990, Head Start has worked with a number of HBCUs. In 1990, Alabama A & M and LeMoyne-Owen were funded. The University of Maryland-Eastern Shore, North Carolina Central University, Jackson State University, and Texas Southern University were funded in 1992. Thirty-two HBCUs were funded by the partnership grant between FY1997 and FY2001. (See Appendix A for a listing of these HBCUs).

In the 1998 reauthorization of the Head Start Act, a key priority of Congress and the Administration was to continue to improve Head Start program quality and accountability. A number of provisions were included in the new law to achieve these goals, including new education performance standards and measures, expansion of program monitoring to incorporate evidence of progress on outcomes-based measures, expanded funding to upgrade program quality and staff compensation, and higher education standards for Head Start teachers. Among these provisions is the requirement that, by September 30, 2003, at least half of all Head Start teachers in center-based programs must have an AA, BA or advanced degree in Early Childhood Education (ECE) or in a related field with preschool teaching experience.

The Head Start Bureau is providing a variety of forms of assistance to local Head Start programs to implement these legislative mandates. For example, to enhance the numbers of teachers with degrees in early childhood education, grantees received $43,000,000 in funding in 1999 and an additional $43,000,000 in 2000 to increase teacher salaries and expand access to higher education courses and degree programs. Currently, Head Start-State Collaboration Offices and training and technical assistance providers help Head Start programs work with higher education institutions on challenges such as linking training obtained in conjunction with the Child Development Associate credential with academic credit and courses leading to AA and BA degrees in early childhood education.

In January 2001, the President signed into law the “No Child Left Behind Act” to make the education of every child in America one of the country's top priorities. The Act seeks to ensure that public schools teach children what they need to know to be successful in life and that they also set high education standards in the classroom. In his 2002 State of the Union address, the President indicated the need to prepare our children to read and succeed in school, including the improvement of Head Start and early childhood development programs. In response to these goals, the White House has developed an early childhood initiative, which is built on raising the bar for Head Start Education methods that create a better learning environment and improved outcomes for children. In his announcement of the Good Start, Grow Smart Early Childhood Initiative in April 2002, the President identified children's early literacy as a key focus for Head Start program improvement. In this initiative, the President presented three areas of focus for Head Start: (1) Strengthening Head Start programs; (2) partnering with states to improve early childhood education, and (3) providing information to teachers, caregivers, and parents. The Head Start Bureau quickly responded to the President's mandate by developing the Strategic Teacher Education Project (STEP) in June 2002. The purpose of Project STEP is to ensure that all Head Start teachers engage in research-based strategies to support children's early literacy and positive social and emotional development, which, in turn, will lead to positive child outcomes and school readiness.

All project applications must address one of the following priority areas:

1. Partnerships to increase the number of center-based teachers with two-year and four-year degrees in early childhood education and

2. Partnerships to increase the competency of Head Start staff in building quality Head Start programs, particularly enhancing language development and social-emotional development, as well as early literacy and assessing child outcomes.

Part II. Program Information and Requirements

A. Statutory Authority

The Head Start Act, as amended, 42 U.S.C. 9801 et seq.

B. Eligible Applicants

Historically Black Colleges and Universities (HBCUs) as defined in the amended version of the Higher Education Act of 1965, codified at 20 U.S.C. 1061(2), are institutions established prior to 1964 whose principle mission was, and is, the education of Black Americans, and must satisfy section 322 of the Higher Education Act of 1965, as amended. Institutions which meet the definition of “Part B institution” in section 322 of the Higher Education Act of 1965, as amended, 20 U.S.C. 1061(2), shall be eligible for assistance under this announcement. Faith-based institutions planning to compete under this announcement must also meet the same eligibility criteria as other applicants. HBCUs that are currently funded under the Head Start Partnership with HBCUs and whose funding will end after 2003 (i.e., 2004 and 2005) are not eligible to apply under this announcement. These institutions are listed in Appendix A.

Faith-based institutions are encouraged to submit with their applications the optional survey located under “Grant Manuals and Forms” at http://www.acf.hhs.gov/programs/ofs/forms.htm.

C. Project Duration

Awards will be made on a competitive basis and will be for a one-year budget period. The total project period will be for five years. Applications for continuation grants funded under these awards beyond the one-year budget period, but within the five-year project period, will be considered on a noncompetitive basis subject to the availability of funds, satisfactory progress of the grantee, and a determination that continued funding is in the best interest of the Government.

D. Federal Share of Project Costs

It is anticipated that up to $1,500,000 in ACF funds will be available annually. The maximum Federal share for each project is not to exceed $150,000 per year per project.

E. Number of Projects To Be Funded

It is anticipated that up to 10 projects will be funded.

F. Matching Requirement

Although there are no matching requirements, applicants are encouraged to provide non-Federal contributions to the project.

Part III. Application Requirements

The following Uniform Project Description (UPD) has been approved by OMB under control number 0970-0139.

A. Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

B. General Instructions

ACF is particularly interested in specific factual information and statements of measurable goals in quantitative terms. Project descriptions are evaluated on the basis of substance, not length. Extensive exhibits are not required. Supporting information concerning activities that will not be directly funded by the grant or information that does not directly pertain to an integral part of the grant-funded activity should be placed in an appendix. Pages should be numbered and a table of contents should be included for easy reference.

Introduction

Applicants are required to submit a full project description and shall prepare the project description statement in accordance with the following instructions and the specified evaluation criteria. The instructions give a broad overview while the evaluation criteria expand and clarify more program-specific information that is needed.

a. Project Summary/Abstract

Provide a summary of the project description (a page or less) with reference to the funding request.

b. Objectives and Need for Assistance

Clearly identify the physical, economic, social, financial, institutional, and or problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated); some of which may be outside the scope of the program announcement.

c. Results or Benefits Expected

Identify the results and benefits to be derived. For example, using a comprehensive review of the current literature, justify how the research questions and the findings will add new knowledge to the field or how it will improve services for children and families.

d. Approach

Outline a plan of action, which describes the scope, and detail of how the proposed work will be accomplished. Account for all functions or activities identified in the application. Cite factors, which might accelerate or decelerate the work and state your reason for taking the proposed approach rather than others. Describe any unusual features of the project such as design or technological innovations, reductions in cost or time, or extraordinary social and community involvement.

Provide quantitative monthly or quarterly projections of the accomplishments to be achieved for each function or activity in such terms as the proportion of data collection expected to be completed. When activity or function cannot quantify accomplishments, list them in chronological order to show the schedule of accomplishments and their target dates.

If any data are to be collected maintained, and/or disseminated, clearance may be required from the U.S. Office of Management and Budget (OMB). This clearance pertains to any “collection of information” that is conducted or sponsored by ACF. List organizations, cooperating entities, consultants, or other key individuals whom will work on the project along with a short description of the nature of their effort or contribution.

C. Additional Information

Following is a description of additional information that should be placed in the appendix to the application:

a. Staff and Position Data

Provide a biographical sketch for each key person appointed and a job description for each vacant key position. A biographical sketch with acceptable credentials will also be required for new key staff as appointed.

b. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation or similar document that clearly establishes non-profit status bearing the seal of the State in which the corporation or association is domiciled or a statement from a State taxing body, State attorney general, or other appropriate State official certifying the applicant organization has a non-profit status and none of the net earnings accrue to any private shareholders or individuals or any of the items in the subparagraphs immediately above for a State or national organization and a statement signed by the parent organization that the applicant organization is a local non-profit affiliate. Faith-based institutions are encouraged to submit with their application the optional survey located under “Grant Manuals and Forms” at www.acf.hhs.gov/programs/ofs/forms.htm.

c. Dissemination Plan

Provide a plan for distributing reports and other project outputs to colleagues and the public. Applicants must provide a description of the kind, volume and timing of distribution.

d. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

D. General Budget Information

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s), and last column, total budget. The budget justification should be a narrative.

a. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

b. Fringe Benefits

Description: Costs of employee fringe benefits unless treated as part of an approved indirect cost rate.

Justification: Provide a breakdown of the amounts and percentages that comprise fringe benefit costs such as health insurance, FICA, retirement insurance, taxes, etc.

c. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored conferences should be detailed in the budget.

d. Equipment

Description: Costs of tangible, nonexpendable, personal property, having a useful life of more than one year and an acquisition cost of $5,000 or more per unit.

However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

e. Supplies

Description: Costs of all tangible personal property other than that included under the Equipment category.

Justification: Specify general categories of supplies and their costs. Show computations and provide other information that supports the amount requested.

f. Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

g. Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

h. Total Direct Charges, Total Indirect Charges, Total Project Costs

Self-explanatory.

Part III. Evaluation Criteria and Review Process

A. Evaluation Criteria

In considering how applicants will carry out the responsibilities addressed under this announcement, competing applications for financial assistance will be reviewed and evaluated against the following criteria:

Criterion 1. Approach: (50 points)

The extent to which the application, having met the minimum requirements, designs an acceptable plan of action pertaining to the scope of the project which details how the proposed work will be accomplished. Include a timeline; lists of each organization, consultants, including key individuals who will work on the project along with a short description of the nature of their effort or contribution. Assure the adequacy of time devoted to the project by key staff. The key staff should be qualified and knowledgeable of Head Start. The applicant must fully describe the approach and/or methodology and delineate the relationship of each task to the accomplishment of the proposed objectives. There should be evidence that the planned approach reflects sufficient input from and partnership with the Head Start partners.

The Head Start Bureau is particularly interested in the following:

1. Describe the planning the applicant will conduct during the start-up period to prepare for implementation of the program. Provide assurance that no more than six months will be devoted to planning activities.

2. Indicate how staff will be recruited and selected to participate in the program, including staff from childcare organizations that are collaborating with Head Start grantees and delegate agencies.

3. Clearly describe how the training and coursework will be contextually and culturally relevant to the Head Start and Early Head Start environment and how it will contribute to enhancing the effectiveness of teachers, program quality, and outcomes for Head Start children and families.

4. For academic training proposals, describe efforts by the institution and Head Start partners to make training and coursework accessible to Head Start participants and to support their successful completion of courses, training, and degrees. Include discussion of issues such as timing, scheduling, and location of classes or training; support to enhance the literacy and study skills of participants, and approaches to integrate training in the working environment of the Head Start program. Provide assurance that training/courses are offered at no cost to trainees.

5. For academic training proposals, describe efforts to complement the Federal funds requested in this proposal with other sources to maximize the benefits to Head Start the institution. Include any efforts or plans to assist Head Start staff in accessing sources of financial assistance or to make use of other funding for training and career development of early childhood program staff.

6. Document that the institution currently offers credit courses, and proposes to offer credit courses, particularly in the area of Early Childhood Development/Education.

7. For academic training proposals, describe how CDA training and certification of Head Start and Early Head Start staff, as appropriate, as well as previous coursework and credits will be linked to academic credits and course sequences leading to AA/BA degrees. Applicant should indicate how many Head Start and Early Head Start staff members will be included in this effort.

8. Describe the organizational structure that will support the project objectives. Indicate how joint planning and assessment with the Head Start and Early Head Start grantees will be implemented with timelines and clear lines of responsibility. Indicate how staff positions are assigned and describe their major functions and responsibilities.

9. Describe the role the institution will play in the consortium of HBCUs funded under this initiative.

10. Describe the activities that will continue after the completion of this project that will ensure that the institution will continue to participate in providing educational opportunities for Head Start and Early Head Start staff.

Criterion 2. Results or Benefits Expected: (20 points)

The extent to which the application identifies the results and benefits to be derived; describes the anticipated contribution to policy, practice, theory and/or research; specific benefits should be described for both the institution and the Head Start program.

The Head Start Bureau is particularly interested in the following:

1. Based on the stated program objectives, identify the results and benefits to be derived. Identify the specific results or benefits that could be expected for the Head Start grantees and the institution. Describe how Head Start children benefit from the project.

2. Identify both qualitative and quantitative data the program will collect to measure progress towards the stated results or benefits. Identify how the program will determine the extent to which it has achieved its stated objectives.

3. For academic training proposals, provide a projection of the estimated number of teachers that will earn degrees over the duration of the project based on an analysis of the current levels of credits/courses earned by participants and a proposed sequence of courses.

Criterion 3. Objectives and Need for Assistance: (15 Points)

The extent to which the application identifies relevant physical, economic, social, financial, institutional or other problems requiring a grant; demonstrates the need for assistance; states the principal and subordinate objectives of the project; provides supporting documentation or other testimonies from concerned interests other than the applicant.

The Head Start Bureau is particularly interested in the following:

1. State the objectives for the program. Indicate how these objectives are based on an assessment of community needs and how they relate to Head Start goals. Describe the process used to assess the need for the proposed program including the total number of staff needing training, including preschool and infant/toddler teachers. If an assessment already exists, the applicant should describe the process used and explain any additional consultation as it relates to the development of the proposed program.

2. Specifically identify the population to be served. Indicate the Head Start and Early Head Start grantees that are proposed as participating partners, the numbers and types of staff to be trained, and the proposed areas of training, courses, and/or degrees to be awarded, as appropriate.

3. Describe the development of agreement of the institution and Head Start partnerships and any other consultation related to the development of the proposed initiative. Describe any efforts to frame the proposed initiative within broader state or community efforts to enhance professional and career development for staff in all forms of early childhood and child care programs. Include support letters that document consultation and support from the proposed grantee or delegate agency partners, such as the Regional Head Start Quality Improvement Center (QICs), the Head Start State Collaboration Office, and any existing state level early childhood career development initiative.

Criterion 4. Budget and Budget Justification: (15 Points)

The extent to which the project's costs are reasonable in view of the activities to be carried out and the anticipated outcomes.

Applicable Administrative Regulations

Applicable administrative regulations include 45 CFR part 74, Administration of Grants, for profit agencies, and 45 CFR part 92, Uniform Administrative Requirements for Grants and Cooperative Agreements to States and local Governments.

Post-Award Reporting Requirements

Post-Award Reporting Requirements include submission of quarterly programmatic and budget reports. Program reports must clearly outline status on the accomplishment of stated goals and objectives. Financial reports must provide status of budget expenditures, as well as identifying any projected savings or shortages.

B. Review Process

Applications received by the due date will be reviewed and scored competitively. Experts in the field, generally persons from outside the Federal government, will use the evaluation criteria listed in Part III of this announcement to review and score the applications. The results of this review are a primary factor in making funding decisions. ACYF may also solicit comments from ACF Regional Office staff and other Federal agencies.

Part IV. Instructions for Submitting Applications

A. Required Forms

Eligible applicants interested in applying for funds must submit a complete application including the required forms included at the end of this program announcement in Appendix A. In order to be considered for a grant under this announcement, an application must be submitted on the Standard Form 424 (approved by the Office of Management and Budget under Control Number 0348-0043). A copy has been provided. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046).

Applicants must sign and return the certification with their application. Applicants must provide a Uniform Project Description (approved by the Office of Management and Budget under control number 0970-0139, which expires 12/31/03).

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within Pub. L. 103-227, Part C Environmental Tobacco Smoke (also known as The Pro-Children's Act of 1994). A copy of the Federal Register notice, which implements the smoking prohibition, is included with the forms. By signing and submitting the application, applicants are providing the certification and need not mail back the certification with the application.

All applicants for research projects must provide a Protection of Human Subjects Assurance as specified in the policy described on the HHS Form 596 (approved by the Office of Management and Budget under control number 0925-0418) in Appendix A. If there is a question regarding the applicability of this assurance, contact the Office for Protection from Research Risks of the National Institutes of Health at (301)-496-7041. Those applying for or currently conducting research projects are further advised of the availability of a Certificate of Confidentiality through the National Institute of Mental Health of the Department of Health and Human Services. To obtain more information and to apply for a Certificate of Confidentiality, contact the Division of Extramural Activities of the National Institute of Mental Health at (301) 443-4673.

B. Application Limits

The narrative of the application should be double-spaced and single-sided on 8 ½″ x 11″ plain white paper, with 1″ margins on all sides. Use only a standard size font no smaller than 12 pitch throughout the proposal. All pages of the narrative of the application (including appendices, resumes, charts, references/footnotes, tables, maps and exhibits) must be sequentially numbered, beginning on the first page after the budget justification, the principal investigator contact information and the Table of Contents. The length of the application, including the narrative, and excluding the appendices and resumes must not exceed 65 pages. Anything over 65 pages will be removed and not considered by the reviewers. The project summary should not be counted in the 65 pages. Applicants are requested not to send pamphlets, brochures, or other printed material along with their applications as these pose copying difficulties. These materials, if submitted, will not be included in the review process. In addition, applicants must not submit any additional letters of endorsement beyond any that may be required. Applicants may omit from the application copies (not the original) specific salary rates or amounts for individuals specified in the application budget and social security numbers if otherwise required for individuals. The copies may include summary salary information.

Applicants are encouraged to submit curriculum resumes using “Biographical Sketch” forms used by some government agencies.

Please note that applicants that do not meet the requirements in the section on “Eligible Applicants” will not be included in the review process.

C. Checklist for a Complete Application

The checklist below is for your use to ensure that the application package has been properly prepared.

—One original, signed and dated application plus two copies.

—Attachments/Appendices, when included, should be used only to provide supporting documentation such as resumes, and letters of agreement/support.

Front Matter

• Cover Letter.

• Table of Contents.

• Project Abstract.

(1) Application for Federal Assistance (SF 424, REV. 4-92);

(2) Budget information—Non-Construction Programs (SF424A&B REV. 4-92);

(3) Budget Justification, including subcontract agency budgets;

(4) Letter from the Head Start programs certifying that the program is a partner of the institution;

(5) Application Narrative, excluding Appendices and resumes (not to exceed 65 pages);

(6) Proof that the organization is an HBCU;

(7) Assurances Non-Construction Programs;

(8) Certification Regarding Lobbying;

(9) Where appropriate, a completed SPOC certification with the date of SPOC contact entered in line 16, page 1 of the SF 424, REV. 4-92;

(10) Certification of Protection of Human Subjects.

D. Due Date for the Receipt of Applications

Deadlines: The closing date for the submission of applications is 4:30 p.m. (EDT) on September 19, 2003. Applications received after the closing date will be classified as late and not considered for funding. Applications should be mailed to: ACYF Operations Center, Historically Black Colleges and Universities, 1150 Connecticut Avenue, NW., Suite 1100, Washington, DC 20036, Telephone: 1-800-351-2293, E-mail: HSB@esilsg.org.

Application for Head Start Discretionary Grants: Head Start Partnerships with Historically Black Colleges and Universities (HBCUs). Applications received after the closing date and time will be classified as late. Applicants will receive a confirmation postcard upon receipt of their application package.

Applications hand carried by applicants, courier services, or by overnight/express mail couriers shall be considered as meeting the announced deadline only if they are received on or before the deadline date, between the hours of 8 a.m. and 4:30 p.m., at the ACYF Operations Center, 1150 Connecticut Avenue, NW., Suite 1100, Washington, DC between Monday and Friday (excluding Federal holidays). (Applicants are cautioned that express/overnight mail services do not always deliver as agreed.)

ACYF cannot accommodate transmission of applications by fax or through other electronic media. Therefore, applications transmitted to ACYF electronically will not be accepted regardless of date or time of submission and time of receipt.

Late applications: Applications, which do not meet the criteria above, are considered late applications. ACF shall notify each late applicant that its application will not be considered.

Extension of deadlines: ACF may extend an application deadline for applicants affected by acts of God such as floods, hurricanes, or when there is widespread disruption of the mails, or when it is anticipated that many applications will come from rural or remote areas. A determination to waive or extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under the following current valid OMB control number 0970-0139 which expires 12/31/2003.

Public reporting burden for this collection is estimated to average 10 hours per response, including the time for reviewing instructions, gathering and maintaining the data needed and reviewing the collection of information.

An agency may not conduct or sponsor, and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected to participate in the Executive Order process and have established Single Points of Contact (SPOCs). Applicants from these twenty-six jurisdictions need take no action regarding E.O. 12372. Applicants for projects to be administered by Federally recognized Indian Tribes are also exempt from the requirements of E.O. 12372.

All remaining jurisdictions participate in the Executive Order process and have established SPOCs. Applicants from participating jurisdictions should contact their SPOCs as soon as possible to alert them of the prospective applications and receive instructions. The applicant must submit all required materials, if any, to the SPOC and indicate the date of the submittal (or the date of contact if no submittal is required) on the Standard Form 424, item 16a. Under 45 CFR 100.8(a)(2), a SPOC has 60 days from the application deadline to comment on proposed new or competing continuation awards. Applicants must submit any required material to the SPOCs as soon as possible so that the Federal program office can obtain and review SPOC comments as part of the award process. A listing of the SPOC for each participating state and territory with contact and address information is available at http://whitehouse.gov/omb/grants/spoc.html.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When comments are submitted directly to ACF, they should be addressed to: William Wilson, ACYF/Office of Grants Management, 330 C Street, SW., Washington, DC 20447, Attn: Head Start Partnerships with Tribally Controlled Land Grant Colleges and Universities. A list of the Single Points of Contact for each State and Territory can be found on the Web site: http://www.whitehouse.gov/omb/grants/spoc.html.

Dated: July 14, 2003.
Joan E. Ohl,
Commissioner, Administration on Children, Youth and Families.

Appendix A—HBCUs That Have Received Partnerships Grants

1997 Institutions (Expired 2001)

South Carolina State University

Cheyney University of Pennsylvania

Texas Southern University

North Carolina Central University

Kentucky State University

Howard University

Tennessee State University

Jackson State University

1998 Institutions (Expiring 2003)

Delaware State University

The University of the District of Columbia

University of Maryland—Eastern Shore

Florida A & M University

Shaw University

Norfolk State University

Hampton University

1999 Institutions (Expiring 2003)

Howard University

Southern University and A&M College

Council Trenholm State Technical College

Kentucky State University

Dillard University

Bluefield State College

2000 Institutions (Expiring 2004)

Harris-Stowe State College

Kentucky State University

North Carolina Central University

Southern University and A&M College

Texas Southern University

The University of the District of Columbia

University of Arkansas at Pine Bluff

Bluefield State University

2001 Institutions (Expiring 2005)

Spelman College

Albany State University

Alabama A&M University

[FR Doc. 03-18165 Filed 7-18-03; 8:45 am]

BILLING CODE 4184-01-P